DEPARTMENT OF THE INTERIOR

Fish and Wildlife Service

Draft Environmental Impact Statement, Section 10 Permit Application, Draft Horseshoe-Bartlett Habitat Conservation Plan, and Draft Implementing Agreement for Incidental Take by the Salt River Project, Maricopa and Yavapai Counties, Arizona

AGENCY: Fish and Wildlife Service, Interior.

ACTION: Notice of availability; request for public comments; announcement of public hearing.

SUMMARY: We, the U.S. Fish and Wildlife Service (Service), have received an application from the Salt River Project (SRP) (applicant) for an incidental take permit under the Endangered Species Act (Act) of 1973, as amended. If approved, the permit would be for a period of 50 years, and would authorize incidental take of 16 species currently listed under the Act, as well as of species that may become listed under the Act in the future. We request comments and plan to hold a public hearing on the application and associated documents.

DATES: We will accept written comments on the draft EIS and application until September 24, 2007. We will also accept oral and written comments at a public hearing on August 29, 2007, 6-9 p.m.

ADDRESSES: Comments: Send comments by one of the following means:

• E-mail: Horeshoe-BartlettHCP@fws.gov;

• Fax: 602/242-2513; or

• Hand delivery or U.S. Mail: Mr. Steve Spangle, Field Supervisor, U.S. Fish and Wildlife Service, 2321 West Royal Palm Road, Suite 103, Phoenix, AZ 85021.

Public Hearing: We will hold our public hearing at the offices of the Salt River Project, 1521 Project Drive, Tempe, AZ 85281.

For more information on submitting comments or requesting documents, see SUPPLEMENTARY INFORMATION.

FOR FURTHER INFORMATION CONTACT: Draft EIS: Ms. Debra Bills, Arizona State Office, U.S. Fish and Wildlife Service, 2321 West Royal Palm Road, Suite 103, Phoenix, AZ 85021; 602/242-0210.

Application: Mr. Charles Paradzick, Senior Ecologist, Salt River Project, P.O. Box 52025, PAB352, Phoenix, AZ 85072-2025; 602/236-2724, or Mr. Craig Sommers, President, ERO Resources Corporation, 1842 Clarkson Street, Denver, CO 80218; 303/830-1188.

SUPPLEMENTARY INFORMATION: Pursuant to the National Environmental Policy Act (NEPA), this notice advises the public that we have gathered the information necessary to: (1) Determine impacts and formulate alternatives for the EIS, related to the potential issuance of an ITP to SRP; and (2) develop and implement the HCP, which provides measures to minimize and mitigate the effects of the incidental take of federally listed species to the maximum extent practicable, pursuant to section 10(a)(1)(B) of the Act.

If approved, the 50-year permit would authorize incidental take of 16 species currently listed under the Act, as well as for species that may become listed under the Act in the future (covered species):

1. Southwestern willow flycatcher (Empidonax traillii extimus) (flycatcher),

2. Bald eagle (Haliaeetus leucocephalus),

3. Yellow-billed cuckoo (Coccyzus americanus) (cuckoo),

4. Razorback sucker (Xyrauchen texanus),

5. Colorado pikeminnow (Ptychocheilus lucius),

6. Gila topminnow (Poeciliopsis o. occidentalis),

7. Spikedace (Meda fulgida),

8. Loach minnow (Tiaroga cobitis),

9. Roundtail chub (Gila robusta),

10. Longfin dace (Agosia chrysogaster),

11. Sonora sucker (Catostomus insignis),

12. Desert sucker (Catostomus clarki),

13. Speckled dace (Rhinichthys osculus),

14. Llowland leopard frog (Rana yavapaiensis),

15. Northern Mexican gartersnake (Thamnophis eques megalops), and

16. Narrow-headed gartersnake (Thamnophis rufipunctatus).

The proposed take would occur in Maricopa and Yavapai Counties, Arizona, as a result of impacts on occupied habitat from continued operation of Horseshoe Dam and Reservoir (Horseshoe) and Bartlett Dam and Reservoir (Bartlett). We have issued a draft Environmental Impact Statement (EIS) to evaluate the impacts of and alternatives for the possible issuance of an incidental take permit (ITP). SRP has completed the draft Horseshoe-Bartlett Habitat Conservation Plan (HCP), along with a draft Implementing Agreement as part of the application package submitted to the Service (collectively, the “Application”) as required by the Act, for consideration of issuance of an ITP. The Application provides measures to minimize and mitigate to the maximum extent practicable the effects of the proposed taking of covered species and effects to the habitats upon which they depend.

Public Availability of Comments

Written comments we receive become part of the public record associated with this action. Before including your address, phone number, e-mail address, or other personal identifying information in your comment, you should be aware that your entire comment—including your personal identifying information—may be made publicly available at any time. While you can ask us in your comment to withhold your personal identifying information from public review, we cannot guarantee that we will be able to do so.

Read-only downloadable copies of the draft EIS and Application documents are available on the Internet at http://www.fws.gov/southwest/es/arizona. A printed or CD copy of the documents is available upon request to Chuck Paradzick, Salt River Project, P.O. Box 52025, Phoenix, AZ 85072-2025; (602) 236-2724; Charles.Paradzick@srpnet.com. Copies of the draft EIS and Application are also available for public inspection and review at the locations listed below.

Copies of the draft EIS and Application are available for public inspection and review at the following locations (by appointment at government offices):

• Department of the Interior, Natural Resources Library, 1849 C Street NW., Washington, DC 20240.

• U.S. Fish and Wildlife Service, 110 S. Church, Suite 3450, Tucson, AZ 85701.

• U.S. Fish and Wildlife Service, 2321 West Royal Palm Road, Suite 103, Phoenix, AZ 85021.

• Salt River Project, 1521 Project Drive, Tempe, AZ 85281.

• Flagstaff Public Library, 300 W. Aspen Ave., Flagstaff, AZ 86001.

• Government Document Service, Arizona State University, Tempe, AZ 85287.

• Phoenix Public Library (Burton Barr Central), 1221 N. Central Ave., Phoenix, AZ 85004.

• Cottonwood Public Library, 100 S. 6th St., Cottonwood, AZ 86326.

• Camp Verde Public Library, 130 Black Bridge Loop Rd., Camp Verde, AZ 86322.

• Fountain Hills Library, 12901 N. La Montana Dr., Fountain Hills, AZ 85268.

If you wish to comment by e-mail, please include your name and return address in the body of your message. If you do not receive a confirmation from the system that we have received your Internet message, contact us directly by calling our Arizona Ecological Services Field Office at 602/242-0210. Please note that at the end of the public comment period, we will close the e-mail address Horeshoe-BartlettHCP@fws.gov.

Background

SRP operates Horseshoe and Bartlett in conjunction with four reservoirs on the Salt River and one reservoir on East Clear Creek as integral features of the Salt River Federal Reclamation Project, authorized by the Reclamation Act of 1902, and pursuant to a 1917 contract with the United States. Since completion in the 1930s and 1940s, Horseshoe and Bartlett have provided water for irrigation, municipal, and other uses. Currently, SRP reservoirs supply much of the water for the population of more than 2.6 million people in the cities of Phoenix, Mesa, Chandler, Tempe, Glendale, Gilbert, Scottsdale, Tolleson, and Avondale. Water deliveries are also made pursuant to specific water rights in Horseshoe and Bartlett held by the City of Phoenix, the Salt River Pima-Maricopa Indian Community, and the Fort McDowell Yavapai Nation. In addition, water is provided to irrigate agricultural lands within SRP and for satisfaction of the independent water rights of Buckeye Irrigation Company, Gila River Indian Community, Roosevelt Irrigation District, Roosevelt Water Conservation District, and others. Horseshoe, Bartlett, and the other SRP reservoirs also provide a variety of recreational uses in central Arizona.

Due to dry conditions in central Arizona for the past 12 years, water levels in Horseshoe and Bartlett have been below normal. As a result, riparian trees and shrubs have grown in the Horseshoe storage space and have been colonized by a population of flycatchers, which are listed as endangered under the Act. Thus, periodic refilling of the reservoir may adversely affect the habitat and nesting of the flycatcher as well as the cuckoo, which uses similar habitat. Also, nonnative fish produced in Horseshoe and Bartlett can adversely impact covered fish, frog, and gartersnake species through predation, competition, and alteration of habitat in the Verde River and portions of its tributaries.

Proposed Action

The proposed action is the issuance of an ITP for the covered species for SRP's continued operation of Horseshoe and Bartlett, pursuant to section 10(a)(1)(B) of the Act. The requested duration of the permit is 50 years. The areas covered by the proposed permit would include Horseshoe up to an elevation of 2,026 feet, Bartlett up to an elevation of 1,748 feet, the Salt River from Granite Reef Dam to the Verde River, most of the Verde River upstream from the Salt River, and portions of the Verde River tributaries. The action area for the proposed permit also includes mitigation lands acquired as part of the HCP.

To meet the requirements of a section 10(a)(1)(B) permit, SRP has developed and would implement the HCP, which would provide modified operating objectives to support stands of tall riparian vegetation at the upper end of Horseshoe to minimize impacts to covered bird species, and to manage Horseshoe water levels to minimize impacts to covered native fish, frog, and gartersnake species. The HCP also includes a description of other measures to minimize and mitigate for incidental take of the covered species to the maximum extent practicable, and which ensures that incidental take of covered species will not appreciably reduce the likelihood of the survival and recovery of these species in the wild.

Alternatives

Two other alternatives we are considering include the following:

1. No Permit—No issuance of an ITP by the Service. This alternative would require SRP to do everything within its control to avoid any take of federally listed species associated with its continued operation of Horseshoe and Bartlett.

2. Modified Historical Operation—Approval by the Service of an application for an ITP authorizing the continued full operation of Horseshoe and Bartlett by SRP using historical operating objectives for the reservoirs, along with additional measures to minimize and mitigate the potential take of covered species.

Section 9 of the Act and its implementing regulations prohibit the “taking” of threatened and endangered species. However, under limited circumstances, we may issue permits to take listed wildlife species incidental to, and not the purpose of, otherwise lawful activities.

We provide this notice under section 10(c) of the Act (16 U.S.C. 1531 et seq.) and its implementing regulations (50 CFR 17.22), and NEPA (42 U.S.C. 4371 et seq.) and its implementing regulations (40 CFR 1506.6).

Christopher T. Jones,
Acting Regional Director, Region 2 Albuquerque, New Mexico.

[FR Doc. E7-14354 Filed 7-20-07; 8:45 am]

BILLING CODE 4510-55-P